DEPARTMENT OF LABOR

Employment and Training Administration

[TA-W-61,866]

STMicroelectronics, Inc., Carrollton, TX; Notice of Revised Determination on Reconsideration of Alternative Trade Adjustment Assistance

By letter dated August 15, 2007, a company official of STMicroelectronics, Inc. requested administrative reconsideration regarding Alternative Trade Adjustment Assistance (ATAA) applicable to workers of the subject firm. The negative determination was signed on August 1, 2007, and was published in the Federal Register on August 14, 2007 (72 FR 45451).

The workers of STMicroelectronics, Inc., Carrollton, Texas were certified eligible to apply for Trade Adjustment Assistance (TAA) on August 1, 2007.

The initial ATAA investigation determined that conditions within the industry are not adverse.

In the request for reconsideration, the petitioner provided sufficient information confirming that employment related to computer and electronic product manufacturing in the state of Texas has declined in the relevant time period and that the employment in semiconductor manufacturing is projected to decrease in the local economy.

Additional investigation has determined that the workers possess skills that are not easily transferable and that the conditions within the industry are adverse. A significant number or proportion of the worker group is age fifty years or over.

Conclusion

After careful review of the additional facts obtained on reconsideration, I conclude that the requirements of Section 246 of the Trade Act of 1974, as amended, have been met for workers at the subject firm.

In accordance with the provisions of the Act, I make the following revised determination:

All workers of STMicroelectronics, Inc., Carrollton, Texas, who became totally or partially separated from employment on or after July 23, 2006 through August 1, 2009, are eligible to apply for alternative trade adjustment assistance under Section 246 of the Trade Act of 1974.

Signed in Washington, DC this 5th day of September, 2007.
Elliott S. Kushner,
Certifying Officer, Division of Trade Adjustment Assistance.

[FR Doc. E7-17887 Filed 9-10-07; 8:45 am]

BILLING CODE 4510-FN-P